FEDERAL COMMUNICATIONS COMMISSION

[FRS 16312]

Open Commission Meeting, Thursday, December 12, 2019

December 5, 2019.

The Federal Communications Commission held an Open Meeting on the subjects listed below on Thursday, December 12, 2019, at 10:30 a.m. in Room TW-C305, at 445 12th Street SW, Washington, DC.

Item No. | Bureau | Subject
1 | WIRELINE COMPETITION | TITLE: Implementation of the National Suicide Hotline Improvement Act of 2018 (WC Docket No. 18-336).
|  | SUMMARY: The Commission will consider a Notice of Proposed Rulemaking that would propose to designate 988 as the 3-digit number for a national suicide prevention and mental health crisis hotline.
2 | ENGINEERING & TECHNOLOGY | TITLE: Use of the 5.850-5.925 GHz Band (ET Docket No. 19-138).
|  | SUMMARY: The Commission will consider a Notice of Proposed Rulemaking that would take a fresh and comprehensive look at the rules for the 5.9 GHz band and propose, among other things, to make the lower 45 MHz of the band available for unlicensed operations and to permit Cellular Vehicle to Everything (C-V2X) operations in the upper 20 megahertz of the band.
3 | WIRELESS TELE-COMMUNICATIONS | TITLE: Facilitating Shared Use in the 3.1-3.55 GHz Band (WT Docket No. 19-348).
|  | SUMMARY: The Commission will consider a Notice of Proposed Rulemaking that would seek comment on removing the existing non-federal allocations in the 3.3-3.55 GHz band as a step towards potential future shared use between federal incumbents and commercial users.
4 | WIRELINE COMPETITION | TITLE: Connect America Fund (WC Docket No. 10-90); Developing a Unified Intercarrier Compensation Regime (CC Docket No. 01-92).
|  | SUMMARY: The Commission will consider an Order on Remand and Declaratory Ruling that would promote continued investment in IP-based networks by clarifying that a local exchange carrier partnering with a VoIP provider may assess end office switched access charges only if the carrier or its VoIP partner provides a physical connection to the last-mile facilities used to serve the end user.
5 | MEDIA | TITLE: Cable Service Change Notifications (MB Docket No. 19-347); Modernization of Media Regulation Initiative (MB Docket No. 17-105); Amendment of the Commission's Rules Related to Retransmission Consent (MB Docket No. 10-71).
|  | SUMMARY: The Commission will consider a Notice of Proposed Rulemaking that would seek comment on modernizing requirements for notices cable operators must provide consumers and local franchise authorities.
6 | MEDIA | TITLE: Reexamination of the Comparative Standards and Procedures for Licensing Noncommercial Educational Broadcast Stations and Low Power FM Stations (MB Docket No. 19-3).
|  | SUMMARY: The Commission will consider a Report and Order that would revise the Commission's Noncommercial Educational Broadcast Station and Low Power FM Station comparative processing and licensing rules.
7 | ENFORCEMENT | TITLE: Enforcement Bureau Action.
|  | SUMMARY: The Commission will consider an enforcement action.
8 | ENFORCEMENT | TITLE: Enforcement Bureau Action.
|  | SUMMARY: The Commission will consider an enforcement action.
9 | ENFORCEMENT | TITLE: Enforcement Bureau Action.
|  | SUMMARY: The Commission will consider an enforcement action.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

Marlene Dortch,
Secretary.

[FR Doc. 2019-27224 Filed 12-17-19; 8:45 am]

BILLING CODE 6712-01-P